DEPARTMENT OF THE INTERIOR

Bureau of Land Management

[LLCAD070000.L91310000.EI0000; CACA 51880]

Notice of Proposed Withdrawal and Opportunity for Public Meeting; California

AGENCY: Bureau of Land Management, Interior.

ACTION: Notice.

SUMMARY: The Assistant Secretary of the Interior for Land and Minerals Management proposes to withdraw approximately 22,562 acres of public lands from settlement, sale, location, and entry under the public land laws, including the United States mining laws, and the operation of the mineral leasing laws, and approximately 1,782 acres of Federal mineral estate from location and entry under the United States mining laws, including the operation of the mineral leasing laws, for a period of 20 years, on behalf of the Bureau of Land Management (BLM), to protect and preserve geothermal, solar, and wind energy study areas for future renewable energy development. This notice temporarily segregates the public lands and subsurface mineral estates for up to 2 years while various studies and analyses are made to support a final decision on the withdrawal application. The lands will remain open to the geothermal leasing laws and the Materials Act of 1947.

DATES: Comments must be received on or before September 6, 2011.

ADDRESSES: Comments should be sent to Karla Norris, Associate Deputy State Director (CA-930), California State Office, Bureau of Land Management, 2800 Cottage Way, Suite W-1623, Sacramento, California 95825-1886.

FOR FURTHER INFORMATION CONTACT: Daniel Krekelberg, California State Office (CA-930), Bureau of Land Management, at 916-978-4655.

SUPPLEMENTARY INFORMATION: The Assistant Secretary for Land and Minerals Management proposes to withdraw, for a period of 20 years and subject to valid existing rights, the following described public lands and Federal mineral estates to protect the lands while the BLM evaluates the area for renewable energy development, including geothermal leasing and solar and wind energy rights-of-ways:

San Bernardino Meridian

a). Public Lands

T. 9 S., R. 12 E.,

sec. 2, E½ SE¼SW¼, S½SE¼, and S½NE¼SE¼;

sec. 4, lots 1 and 2, and S½;

sec. 6, lots 1 and 2, and SE¼;

sec. 8, E½;

sec. 10;

sec. 12, W½NE¼, SE¼NE¼, W½, N½SE¼, and SE¼SE¼;

sec. 14, W½NE¼ and NW¼;

sec. 18, lots 1 and 2, and E½;

secs. 20 and 24;

sec. 26, S½NW¼ and S½.

T. 9 S., R. 13 E.,

sec. 18, lots 3 to 6, inclusive, E½W½, and SE¼;

sec. 20, SW¼NE¼, W½NW¼, SE¼NW¼, and S½;

sec. 22, S½SW¼;

sec. 26, SW¼NW¼, SW¼, and S½SE¼;

sec. 28;

sec. 30, E½SW¼ and S½SE¼;

secs. 32 and 34.

T. 10 S., R. 13 E.,

sec. 4, lots 6, 7, and 14, and SW¼;

sec. 6, lots 2 to 15, inclusive, E½SW¼, and SE¼.

T. 10 S., R. 14 E.,

sec. 6, lots 6, 7, and lots 13 to 16, inclusive, E½SW¼, W½SE¼, and SE¼SE¼;

sec. 8, SW¼NE¼, W½, and SE¼;

sec. 22, SW¼NE¼, W½, and SE¼;

sec. 26, E½, N½NW¼, N½SE¼NW¼, S½N½SW¼, and S½SW¼;

sec. 28, NE¼SE¼.

T. 11 S., R. 14 E.,

sec. 12, NE¼NE¼.

T. 10 S., R. 15 E.,

sec. 32.

T. 11 S., R. 15 E.,

sec. 4, lots 3 to 6, inclusive, S½N½, and S½;

sec. 6, lots 3 to 9, inclusive, S½NE¼, SE¼NW¼, E½SW¼, and SE¼;

secs. 8, 10, 11, 13, and 14;

sec. 18, E½E½;

sec. 20, N½, N½SE¼, and SE¼SE¼;

secs. 22 and 24;

sec. 28, N½, N½SE¼, and SE¼SE¼;

sec. 34, NE¼SW¼.

T. 11 S., R. 16 E.,

sec. 19, lots 3 to 18, inclusive;

sec. 29;

sec. 30, lots 3 to 18, inclusive, and E½.

The areas described aggregate 22,562 acres, more or less, in Imperial County.

(b). Non-Federal Surface and Federal Mineral Estate

(1). Non-Federal Surface and Federal Minerals

T. 9 S., R. 12 E.,

sec. 2, lots 3 to 18, inclusive, S½N½, N½SW¼, SW¼SW¼, W½SE¼SW¼, N½N½SE¼, and S½NW¼SE¼;

sec. 12, SW¼SE¼;

sec. 28, E½, SE¼NW¼, and SW¼.

T. 10 S., R. 14 E.,

sec. 26, SW¼NW¼, S½SE¼NW¼, and N½N½SW¼.

The areas described aggregate 1,182 acres, more or less, in Imperial County.

(2). Non-Federal Surface and Federal Oil and Gas, only

T. 9 S., R. 12 E.,

sec. 8, SW¼.

T. 10 S., R. 13 E.,

sec. 2, lots 7, 8, 13, and 14;

sec. 12, SW¼;NW¼;.

T. 10 S., R. 14 E.,

sec. 34, SE¼;NE¼;.

T. 11 S., R. 15 E.,

sec. 34, W½SW¼ and SE¼SW¼.

The areas described aggregate 520 acres, more or less, in Imperial County.

(3). Non-Federal Surface and Federal Geothermal, Only

T. 10 S., R.13. E,

sec. 10, E½NE¼.

The areas described aggregate 80.00 acres in Imperial County.

The total areas described in (a) and (b) above, including both public lands and Federal minerals, aggregate 24,344 acres, more or less, in Imperial County.

The BLM's petition for withdrawal has been approved by the Assistant Secretary for Land and Minerals Management. Therefore, it constitutes a withdrawal proposal of the Secretary of the Interior (43 CFR 2310.1-3(e)).

The purpose of the proposed withdrawal is to protect and preserve geothermal, solar, and wind energy study areas for future renewable energy development for a 20-year period.

The use of a right-of-way, interagency agreement, cooperative agreement, or surface management under 43 CFR part 3809 regulations would not adequately constrain non-discretionary uses that could irrevocably affect the use of the lands for the development of renewable energy resources.

No water rights would be needed to fulfill the purpose of the requested withdrawal.

Until September 6, 2011, all persons who wish to submit comments, suggestions, or objections in connection with the proposed withdrawal may present their views in writing, by the date specified above, to the BLM Director, California State Office, BLM, 2800 Cottage Way, Sacramento, California 95825.

Comments, including names and street addresses for respondents, will be available for public review at the BLM's California State Office, during regular business hours, 8:30 a.m. to 4:30 p.m., Monday through Friday, except holidays. Individual respondents may request confidentiality. Before including your address, telephone number, e-mail address, or other personal identifying information in your comment, you should be aware that your entire comment—including your personal identifying information—may be publicly available at any time. While you can ask us in your comment to withhold your personal identifying information from public review, we cannot guarantee that we will be able to do so.

Notice is hereby given that a public meeting will be afforded in connection with the proposed withdrawal. A notice of time and place will be published in the Federal Register and a local newspaper at least 30 days before the scheduled date of the meeting.

The withdrawal proposal will be processed in accordance with the regulations set forth in 43 CFR 2300.

For a period of 2 years from June 8, 2011, the public lands referenced in this notice will be segregated from settlement, sale, location, and entry under the public land laws, including the United States mining laws and the operation of the mineral leasing laws, but not the geothermal leasing laws or the Materials Act of 1947, and the Federal mineral estates will be segregated from the United States mining laws and the operation of the mineral leasing laws, but not the geothermal leasing laws or the Materials Act of 1947, unless the application is denied or canceled or the withdrawal is approved prior to that date.

Additionally, upon publication of this notice in the Federal Register and during the temporary 2 year segregative period, the BLM is no longer accepting any new applications for a right-of-way for a solar or wind energy facility, located on the lands described above. Any previously authorized grant or pending applications for geothermal leasing or a right-of-way for a solar or wind energy facility, located on the lands described in this notice, will not be affected by this notice.

Licenses, permits, cooperative agreements, or discretionary land use authorizations of a temporary nature which will not significantly impact the values to be protected by the withdrawal may be allowed with the approval of the authorized officer of BLM during the segregative period.

Authority: 43 CFR 2310.1-2.

Karla D. Norris,
Associate Deputy State Director, Natural Resources (CA-930).

[FR Doc. 2011-14168 Filed 6-7-11; 8:45 am]

BILLING CODE 4310-40-P